DEPARTMENT OF ENERGY

Federal Energy Regulatory Commission

[Docket No. PR04-5-000]

PanEnergy Louisiana Intrastate, LLC; Notice of Petition for Rate Approval

December 4, 2003.

Take notice that on November 28, 2003, PanEnergy Louisiana Intrastate, LLC (PELICO) filed a petition for rate approval pursuant to Section 284.123(b)(2) of the Commission's Regulations. PELICO requests the Commission to approve a rate for firm and interruptible transportation service under Section 311(a)(2) of the Natural Gas Policy Act of $0.2543 per MMBtu.

Any person desiring to participate in this rate proceeding must file a motion to intervene or protest with the Federal Energy Regulatory Commission, 888 First Street, NE., Washington, DC 20426, in accordance with sections 385.214 or 385.211 of the Commission's Rules and Regulations. All such motions or protests must be filed with the Secretary of the Commission on or before the date as indicated below. Protests will be considered by the Commission in determining the appropriate action to be taken, but will not serve to make protestants parties to the proceedings. Any person wishing to become a party must file a motion to intervene. This petition for rate approval is available for review at the Commission in the Public Reference Room or may be viewed on the Commission's Web site at http://www.ferc.gov using the “FERRIS” link. Enter the docket number excluding the last three digits I the docket number field to access the document. For Assistant, call (202) 502-8222 or for TTY, (202) 502-8659. Comments, protests and interventions may be filed electronically via the Internet in lieu of paper. The Commission strongly encourages electronic filings. See, 18 CFR 385.2001(1)(iii) and the instructions on the Commission's Web site under the “e-Filing” link.Intervention and Protest Date: December 26, 2003.

Magalie R. Salas,
Secretary.

[FR Doc. E3-00519 Filed 12-10-03; 8:45 am]

BILLING CODE 6717-01-P